DEPARTMENT OF COMMERCE

National Oceanic and Atmospheric Administration

[I.D. 102306D]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet November 12-17, 2006. The Council meeting will begin on Monday, November 13, at 2:30 pm, reconvening each day through Friday, November 17. All meetings are open to the public, except a closed session will be held from 2:30 p.m. until 4:30 p.m. on Monday, November 13 to address litigation and personnel matters. The Council will meet as late as necessary each day to complete its scheduled business.

ADDRESSES: The meetings will be held at the Hilton San Diego/Del Mar Hotel, 15575 Jimmy Durante Boulevard, Del Mar, CA 92014; telephone: (858) 792-5200.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Administrative Matters

1. Future Council Meeting Agenda Planning

2. Updated Research and Data Needs

3. Legislative Matters

4. Fiscal Matters

5. Appointments of Council Officers and Members of Advisory Bodies, Standing Committees, and Other Forums, Including the 2007-09 Advisory Body Term, and any Necessary Changes to Council Operating Procedures

6. Council Three-Meeting Outlook, Draft March 2007 Council Meeting Agenda, and Workload Priorities

C. Highly Migratory Species Management

1. NMFS Report

2. Final Changes to Routine Management Measures

3. Exempted Fishing Permits

4. Fishery Management Plan (FMP) Amendment 1: Overfishing Response for Bigeye Tuna

5. Yellowfin Tuna Status

D. Groundfish Management

1. NMFS Report

2. Groundfish Bycatch Work Plan

3. Groundfish Stock Assessments for 2007

4. Exempted Fishing Permits for 2007 Fisheries

5. Consideration of Inseason Adjustments

6. Shore-Based Whiting Monitoring Program

7. Intersector Allocation for Trawl Individual Quotas and Other Management Needs

E. Habitat

Current Habitat Issues

F. Coastal Pelagic Species Management

1. Pacific Sardine Stock Assessment and Harvest Guideline

2. Stock Assessment Review Panel Terms of Reference for 2007

G. Pacific Halibut Management

Changes to Catch Sharing Plan and 2007 Annual Regulations

H. Marine Protected Areas

Channel Islands National Marine Sanctuary Marine Protected Areas

I. Salmon Management

1. Preseason Salmon Management Schedule for 2007

2. Salmon Methodology Review

3. FMP Amendment 15 (de minimis fisheries)

SCHEDULE OF ANCILLARY MEETINGS

SUNDAY, NOVEMBER 12, 2006

Budget Committee - 4 p.m.

MONDAY, NOVEMBER 13, 2006

Council Secretariat - 8 a.m.

Groundfish Advisory Subpanel - 8 a.m.

Groundfish Management Team - 8 a.m.

Habitat Committee - 8 a.m.

Scientific and Statistical Committee - 8 a.m.

Special Session: National Marine Sanctuary Roundtable Discussion - 8:30 a.m.

Special Session: Groundfish Ecosystem Productivity Presentation - 10:30 a.m.

Enforcement Consultants - 5:30 p.m.

Legislative Committee -7 p.m.

TUESDAY, NOVEMBER 14, 2006

Council Secretariat - 7 a.m.

California State Delegation - 7 a.m.

Oregon State Delegation - 7 a.m.

Washington State Delegation - 7 a.m.

Groundfish Advisory Subpanel - 8 a.m.

Groundfish Management Team - 8 a.m.

Salmon Amendment Committee - 8 a.m.

Scientific and Statistical Committee - 8 a.m.

Habitat Committee/Scientific and Statistical Subcommittee on Ecosystem Management - 2:30 p.m.

Enforcement Consultants - As necessary

WEDNESDAY, NOVEMBER 15, 2006

Council Secretariat - 7 a.m.

California State Delegation - 7 a.m.

Oregon State Delegation - 7 a.m.

Washington State Delegation - 7 a.m.

Groundfish Advisory Subpanel - 8 a.m.

Groundfish Management Team - 8 a.m.

Salmon Amendment Committee - 8 a.m.

Enforcement Consultants - As necessary

Annual Awards Banquet - 6 p.m.

THURSDAY, NOVEMBER 16, 2006

Council Secretariat - 7 a.m.

California State Delegation - 7 a.m.

Oregon State Delegation - 7 a.m.

Washington State Delegation - 7 a.m.

Groundfish Advisory Subpanel - 8 a.m.

Groundfish Management Team - 8 a.m.

Salmon Advisory Subpanel - 8 a.m.

Salmon Technical Team - 8 a.m.

Enforcement Consultants - As necessary

FRIDAY, NOVEMBER 17, 2006

Council Secretariat - 7 a.m.

California State Delegation - 7 a.m.

Oregon State Delegation - 7 a.m.

Washington State Delegation - 7 a.m.

Salmon Technical Team - As necessary

Enforcement Consultants - As necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: October 24, 2006.
Tracey L. Thompson,
Acting Director, Office of Sustainable Fisheries, National Marine Fisheries Service.

[FR Doc. E6-18031 Filed 10-26-06; 8:45 am]

BILLING CODE 3510-22-S